DEPARTMENT OF THE INTERIOR

National Park Service

[NPS-WASO-NAGPRA-NPS0023837; PPWOCRADN0-PCU00RP14.R50000]

Notice of Inventory Completion: New Jersey State Museum, Trenton, NJ

AGENCY: National Park Service, Interior.

ACTION: Notice.

SUMMARY: The New Jersey State Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the New Jersey State Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the New Jersey State Museum at the address in this notice by October 5, 2017.

ADDRESSES: Dr. Gregory D. Lattanzi, Bureau of Archaeology & Ethnology, New Jersey State Museum, 205 West State Street, Trenton, NJ 08625, telephone (609) 984-9327, email gregory.lattanzi@sos.nj.gov.

SUPPLEMENTARY INFORMATION: Notice is here given in accordance with the Native American Graves Protection and Repatriation Act (NAGPRA), 25 U.S.C. 3003, of the completion of an inventory of human remains under the control of the New Jersey State Museum, Trenton, NJ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the New Jersey State Museum professional staff in consultation with representatives of the Pawnee Nation of Oklahoma.

History and Description of the Remains

Sometime after 1868, human remains representing, at minimum, one individual were collected by Mr. Charles A. Philhower of Westfield, NJ. The human remains were donated to Rutgers University, Special Collections and Library and, in 1972, transferred to the New Jersey State Museum as a permanent loan. In 2010, the Philhower collection was permanently accessioned into the New Jersey State Museum. The human remains consist of a hair lock and scalp representing one male of indeterminate age. A note accompanying the scalp lock reads “Taken from the head of a Pawnee Indian by an Indian wagon driver, Alapthe, along the old Santa Fe Trail near Wagon Mound in the center of New Mexico, year 1868.” No known individual was identified. No associated funerary objects are present.

Determinations Made by the New Jersey State Museum

Officials of the New Jersey State Museum have determined that:

• Pursuant to 25 U.S.C. 3001(9), the human remains described in this notice represent the physical remains of one individual of Native American ancestry.

• Pursuant to 25 U.S.C. 3001(2), there is a relationship of shared group identity that can be reasonably traced between the Native American human remains and the Pawnee Nation of Oklahoma.

Additional Requestors and Disposition

Lineal descendants or representatives of any Indian Tribe or Native Hawaiian organization not identified in this notice that wish to request transfer of control of these human remains should submit a written request with information in support of the request to Dr. Gregory D. Lattanzi, Bureau of Archaeology & Ethnology, New Jersey State Museum, 205 West State Street, Trenton, NJ 08625, telephone (609) 984-9327, email gregory.lattanzi@sos.nj.gov, by October 5, 2017. After that date, if no additional requestors have come forward, transfer of control of the human remains to the Pawnee Nation of Oklahoma may proceed.

The New Jersey State Museum is responsible for notifying the Pawnee Nation of Oklahoma that this notice has been published.

Dated: August 29, 2017.
Sarah Glass,
Acting Manager, National NAGPRA Program.

[FR Doc. 2017-18682 Filed 9-1-17; 8:45 am]

BILLING CODE 4312-52-P